DEPARTMENT OF ENERGY

Federal Energy Regulatory Commission

Combined Notice of Filings #1

Take notice that the Commission received the following electric rate filings:

Docket Numbers: ER10-2881-006; ER10-2882-006; ER10-2883-006; ER10-2884-006; ER10-2885-006; ER10-2641-006; ER10-2663-006; ER10-2886-006.

Applicants: Alabama Power Company, Southern Power Company, Georgia Power Company, Mississippi Power Company, Gulf Power Company, Oleander Power Project, Limited Partnership, Southern Company—Florida LLC, Southern Turner Cimarron I, LLC.

Description: Notice of Change in Status of Alabama Power Company, et al.

Filed Date: 1/7/13.

Accession Number: 20130107-5230.

Comments Due: 5 p.m. ET 1/28/13.

Docket Numbers: ER11-3551-000; ER11-3822-000; ER11-3553-000; ER11-3554-000; ER11-3824-000.

Applicants: Glacial Energy of New York, Glacial Energy of New England, Inc., Glacial Energy of New Jersey, Inc., Glacial Energy of California, Inc., Glacial Energy of Illinois, Inc.

Description: Revised Refund Report of Glacial Energy of New York, et al.

Filed Date: 1/7/13.

Accession Number: 20130107-5213.

Comments Due: 5 p.m. ET 1/28/13.

Docket Numbers: ER13-454-001.

Applicants: NDR Energy Group, LLC.

Description: Amendment Filing to be effective 1/7/2013.

Filed Date: 1/7/13.

Accession Number: 20130107-5183.

Comments Due: 5 p.m. ET 1/28/13.

Docket Numbers: ER13-720-000.

Applicants: Midwest Independent Transmission System Operator, Inc.

Description: 2013-01-07 SA 2078 NSP-Sibley G587 to be effective 1/8/2013.

Filed Date: 1/7/13.

Accession Number: 20130107-5200.

Comments Due: 5 p.m. ET 1/28/13.

Docket Numbers: ER13-721-000.

Applicants: Nevada Power Company.

Description: Rate Schedule No. 126 Nevada Cogeneration Associates #1 Contract LTPP From QF to be effective 3/8/2013.

Filed Date: 1/7/13.

Accession Number: 20130107-5206.

Comments Due: 5 p.m. ET 1/28/13.

Docket Numbers: ER13-722-000.

Applicants: Nevada Power Company.

Description: Rate Schedule No. 128 Nevada Cogeneration Associates #2 Contract LTPP From QF to be effective 3/8/2013.

Filed Date: 1/7/13.

Accession Number: 20130107-5207.

Comments Due: 5 p.m. ET 1/28/13.

Docket Numbers: ER13-723-000.

Applicants: Nevada Power Company.

Description: Rate Schedule No. 94 Amended & Restated McCullough Switchyard Agreement to be effective 3/8/2013.

Filed Date: 1/7/13.

Accession Number: 20130107-5208.

Comments Due: 5 p.m. ET 1/28/13.

Docket Numbers: ER13-724-000.

Applicants: Nevada Power Company.

Description: Rate Schedule No. 125 Saguaro Power Company Contract A LTPP from QF to be effective 3/8/2013.

Filed Date: 1/7/13.

Accession Number: 20130107-5209.

Comments Due: 5 p.m. ET 1/28/13.

Docket Numbers: ER13-725-000.

Applicants: Southwest Power Pool, Inc.

Description: 2220R1 Broken Bow Wind II, LLC to be effective 12/6/2012.

Filed Date: 1/7/13.

Accession Number: 20130107-5210.

Comments Due: 5 p.m. ET 1/28/13.

Docket Numbers: ER13-726-000.

Applicants: PJM Interconnection, L.L.C.

Description: Queue Position W3-066; Original Service Agreement Nos. 3473 & 3474 to be effective 12/6/2012.

Filed Date: 1/7/13.

Accession Number: 20130107-5211.

Comments Due: 5 p.m. ET 1/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2013.
Nathaniel J. Davis, Sr.,
Deputy Secretary.

[FR Doc. 2013-00630 Filed 1-14-13; 8:45 am]

BILLING CODE 6717-01-P